FEDERAL DEPOSIT INSURANCE CORPORATION

Agency Information Collection Activities: Proposed Collection Renewal; Comment Request (OMB No. 3064-0174; and -0191)

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (3064-0174; and -0191).

DATES: Comments must be submitted on or before September 10, 2019.

ADDRESSES: Interested parties are invited to submit written comments to the FDIC by any of the following methods:

• https://www.FDIC.gov/regulations/laws/federal.

• Email: comments@fdic.gov. Include the name and number of the collection in the subject line of the message.

• Mail: Manny Cabeza (202-898-3767), Counsel, MB-3128, Federal Deposit Insurance Corporation, 550 17th Street NW, Washington, DC 20429.

• Hand Delivery: Comments may be hand-delivered to the guard station at the rear of the 17th Street Building (located on F Street), on business days between 7 a.m. and 5 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Counsel, 202-898-3767, mcabeza@fdic.gov, MB-3128, Federal Deposit Insurance Corporation, 550 17th Street NW, Washington, DC 20429.

SUPPLEMENTARY INFORMATION:

Proposal to renew the following currently approved collection of information:

1. Title: Funding and Liquidity Risk Management.

OMB Number: 3064-0174.

Form Number: None.

Affected Public: Businesses or other for-profits.

Burden Estimate:

Summary of Annual Burden
Information collection (IC) description | Type of burden | Obligation to respond | Estimated number of respondents | Estimated number of responses | Estimated time per response (hours) | Frequency of response | Total estimated annual burden (hours)
Par. 14—Strategies, Policies, Procedures and Risk Tolerances | Recordkeeping | Voluntary | 3,483 | 1 | 96.42 | On Occasion | 335,830.86
Par. 20—Liquidity Risk Management, Measurement, Monitoring and Reporting | Reporting | Voluntary | 3,483 | 12 | 4 | On Occasion | 167,184
Total Estimated Annual Burden Hours |  |  |  |  |  |  | 503,014.86 hours

General Description of Collection: The information collection includes reporting and recordkeeping burdens related to sound risk management principles applicable to insured depository institutions. To enable an institution and its supervisor to evaluate the liquidity risk exposure of an institution's individual business lines and for the institution as a whole, the Interagency Policy Statement on Funding and Liquidity Risk Management (Interagency Statement) summarizes principles of sound liquidity risk management and advocates the establishment of policies and procedures that consider liquidity costs, benefits, and risks in strategic planning. In addition, the Interagency Statement encourages the use of liquidity risk reports that provide detailed and aggregate information on items such as cash flow gaps, cash flow projections, assumptions used in cash flow projections, asset and funding concentrations, funding availability, and early warning or risk indicators. This is intended to enable management to assess an institution's sensitivity to changes in market conditions, the institution's financial performance, and other important risk factors.

There is no change in the method or substance of the collection. The overall reduction in burden hours is the result of economic fluctuation. In particular, the number of respondents has decreased while the hours per response and frequency of responses have remained the same.

2. Title: Interagency Guidance on Leveraged Lending.

OMB Number: 3064-0191.

Form Number: None.

Affected Public: Insured state nonmember banks and savings associations.

Burden Estimate:

Summary of Annual Burden
Information collection (IC) description | Type of burden | Obligation to respond | Estimated number of respondents | Estimated number of responses | Estimated time per response (hours) | Frequency of response | Total estimated annual burden (hours)
Interagency Guidance on Leveraged Lending—Implementation | Recordkeeping | Voluntary | 1 | 1 | 986.70 | On Occasion | 986.70
Interagency Guidance on Leveraged Lending—Ongoing | Recordkeeping | Voluntary | 5 | 1 | 529.3 | On Occasion | 2,646.50
Total Estimated Annual Burden Hours |  |  |  |  |  |  | 3,633.20

General Description of Collection:

The Interagency Guidance on Leveraged Lending (Guidance) outlines for agency-supervised institutions high-level principles related to safe-and-sound leveraged lending activities, including underwriting considerations, assessing and documenting enterprise value, risk management expectations for credits awaiting distribution, stress-testing expectations, pipeline portfolio management, and risk management expectations for exposures held by the institution. This Guidance provides information to all financial institutions supervised by the Office of the Comptroller of the Currency, the Board of Governors of the Federal Reserve System and the FDIC (the Agencies) that engage in leveraged lending activities. The number of community banks with substantial involvement in leveraged lending is small; therefore, the Agencies generally expect community banks to be largely unaffected by this information collection.

There is no change in the method or substance of the collection. The overall reduction in burden hours is the result of economic fluctuation. In particular, the number of respondents has decreased while the hours per response and frequency of responses have remained the same.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, on July 8, 2019.
Federal Deposit Insurance Corporation.
Robert E. Feldman,
Executive Secretary.

[FR Doc. 2019-14802 Filed 7-11-19; 8:45 am]

BILLING CODE 6714-01-P